DEPARTMENT OF COMMERCE

International Trade Administration

(A-570-892)

Carbazole Violet Pigment 23 from the People's Republic of China: Notice of Extension of Time Limit for 2004-2005 Administration Review

AGENCY: Import Administration, International Trade Administration, Department of Commerce.

EFFECTIVE DATE: August 25, 2006.

FOR FURTHER INFORMATION CONTACT: Rebecca Trainor or Brian Smith, AD/CVD Operations, Office 2, Import Administration, International Trade Administration, U.S. Department of Commerce, 14th Street and Constitution Avenue, NW, Washington, DC 20230; telephone (202) 482-4007 or (202) 482-1766, respectively.

SUPPLEMENTARY INFORMATION:

Background

On February 1, 2006, the Department of Commerce (“Department”) published in the Federal Register a notice of initiation of administrative review of the antidumping duty order on carbazole violet pigment 23 from the People's Republic of China, covering the period June 24, 2004, through November 30, 2005. See Initiation of Antidumping and Countervailing Duty Administrative Reviews, 71 FR 5241 (February 1, 2006). The preliminary results for this administrative review are currently due no later than September 5, 2006.¹

¹ September 5, 2006, is the next business day after 245 days from the last day of the anniversary month of the order.

Statutory Time Limits

Section 751(a)(3)(A) of the Tariff Act of 1930, as amended (“the Act”), requires the Department to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Extension of Time Limit for Preliminary Results

The Department requires additional time because of the complexity of the valuation issues raised by the questionnaire responses. Thus, it is not practicable to complete this review within the original time limit (i.e., 245 days). Therefore, the Department is extending the time limit for completion of the preliminary results by 60 days to 335 days, in accordance with section 751(a)(3)(A) of the Act. The preliminary results are now due not later than November 1, 2006. The final results continue to be due 120 days after publication of the preliminary results.

We are issuing and publishing this notice in accordance with sections 751(a)(1) and 777(i)(1) of the Act.

Dated: August 21, 2006.
Stephen J. Claeys,
Deputy Assistant Secretary for Import Administration.

[FR Doc. E6-14171 Filed 8-24-06; 8:45 am]

BILLING CODE 3510-DS-S